DEPARTMENT OF DEFENSE

Department of the Navy

Meeting of the Board of Visitors of Marine Corps University

AGENCY: Department of the Navy, DOD.

ACTION: Notice.

SUMMARY: The Board of Visitors of the Marine Corps University (BOV MCU) will meet to review, develop and provide recommendations on all aspects of the academic and administrative policies of the University; examine all aspects of professional military education operations; and provide such oversight and advice, as is necessary, to facilitate high educational standards and cost effective operations. The Board will be focusing primarily on Professional Military Education in the Marine Corps. All sessions of the meeting will be open to the public.

DATES: The meeting will be held on Monday, November 5, 2007 from 8 a.m. to 4 p.m. and on Tuesday, November 6, 2007, from 8 a.m. to 12 p.m.

ADDRESSES: The meeting will be held at Marine Corps University in the Hooper Room, Marine Corps University, 2076 South Street, Quantico, Virginia 22134.

FOR FURTHER INFORMATION CONTACT: Mary Lanzillotta, Executive Secretary, Marine Corps University Board of Visitors, 2076 South Street, Quantico, Virginia 22134, telephone number 703-784-4037.

Dated: October 4, 2007.
T.M. Cruz,
Lieutenant, Judge Advocate General's Corps, U.S. Navy, Federal Register Liaison Officer.

[FR Doc. E7-20163 Filed 10-11-07; 8:45 am]

BILLING CODE 3810-FF-P